DEPARTMENT OF COMMERCE

International Trade Administration

[A-570-042, C-570-043]

Stainless Steel Sheet and Strip From the People's Republic of China: Final Scope Ruling and Final Affirmative Determination of Circumvention for Exports From the Socialist Republic of Vietnam; Correction

AGENCY: Enforcement and Compliance, International Trade Administration, Department of Commerce.

ACTION: Notice; correction.

SUMMARY: On March 29 and 30, 2023, the U.S. Department of Commerce (Commerce) inadvertently published duplicate copies of a Federal Register notice. This notice serves as a notification of, and correction to, this inadvertent duplicate publication.

FOR FURTHER INFORMATION CONTACT: Blaine Wiltse, Office of the Deputy Assistant Secretary for AD/CVD Operations, Enforcement and Compliance, International Trade Administration, U.S. Department of Commerce, 1401 Constitution Avenue NW, Washington, DC 20230; telephone: (202) 482-6345.

SUPPLEMENTARY INFORMATION:

Correction

Commerce published in the Federal Register of March 29, 2023, in FR Doc 2023-06500, on page 18521, in the third column, a notice entitled, “Stainless Steel Sheet and Strip From the People's Republic of China: Final Scope Ruling and Final Affirmative Determination of Circumvention for Exports from the Socialist Republic of Vietnam.” ¹ Commerce has discovered that this notice was also inadvertently published to the Federal Register on March 30, 2023, in FR Doc 2023-06582, on page 19070, in the second column.² The inadvertent duplicate publication of this notice does not constitute redetermination of this proceeding. This notice serves as a notification of, and correction to, this inadvertent duplicate publication.

¹ See Stainless Steel Sheet and Strip from the People's Republic of China: Final Scope Ruling and Final Affirmative Determination of Circumvention for Exports from the Socialist Republic of Vietnam, 88 FR 18521 (March 29, 2023).

² See Stainless Steel Sheet and Strip from the People's Republic of China: Final Scope Ruling and Final Affirmative Determination of Circumvention for Exports From the Socialist Republic of Vietnam, 88 FR 19070 (March 30, 2023).

Dated: April 18, 2023.
Lisa W. Wang,
Assistant Secretary for Enforcement and Compliance.

[FR Doc. 2023-08537 Filed 4-21-23; 8:45 am]

BILLING CODE 3510-DS-P